DEPARTMENT OF VETERANS AFFAIRS

[OMB Control No. 2900-NEW]

Proposed Information Collection: VA Financial Services Center (VA-FSC) Vendor File Request Form

Activity: Comment Request

AGENCY: Financial Services Center, VA.

ACTION: Notice.

SUMMARY: The Department of Veterans Affairs—Financial Services Center (VA-FSC) is announcing an opportunity for the general public and other Federal agencies to comment on a continuing information collection as required by the Paperwork Reduction Act (PRA) of 1995, Public Law 104-13 (44 U.S.C. 3506(c)(2)(A). Under the PRA, Federal agencies are required to publish notice in the Federal Register concerning each proposed collection of information and allow 60 days for public comment in response to the notice. Currently the Nationwide Vendor File Division within VA-FSC is soliciting comments concerning VA Form 10091, which will replace the Automated Clearing House “ACH Vendor/Miscellaneous Payment Enrollment Form” (SF3881/OMB 1510-0056) for all vendors who need to establish or update their Financial Management System (FMS) Vendor Record in order to receive VA payments that comply with the1996 Debt Collection Improvement Act (DCIA). The DCIA mandated the use of electronic funds transfer (EFT) for federal payments.

DATES: Written comments and recommendations on the proposed collection of information should be received on or before January 29, 2016.

ADDRESSES: Submit written comments on the collection of information through the Federal Docket Management System (FDMS) at www.Regulations.gov; or to VA-FSC—Nationwide Vendor File Division, Valerie H. Robinson, 7600 Metropolis Drive, Bldg 5, Austin, TX 78744 or valerie.robinson7@va.gov. Please refer to “OMB Control No. 2900-NEW (VA-FSC Vendor File Request Form)” in any correspondence. During the comment period, comments may be viewed online through FDMS.

FOR FURTHER INFORMATION CONTACT: Valerie H Robinson at (512) 460-5454

SUPPLEMENTARY INFORMATION: Under the PRA of 1995 (Pub. L. 104-13; 44 U.S.C. 3501—3521), Federal agencies must obtain approval from OMB for each collection of information they conduct or sponsor. This request for comment is being made pursuant to Section 3506(c)(2)(A) of the PRA.

With respect to the following collection of information, VA-FSC invites comments on: (1) whether the proposed collection of information is necessary for the proper performance of VA-FSCs functions, including whether the information will have practical utility; (2) the accuracy of VA-FSCs estimate of the burden of the proposed collection of information; (3) ways to enhance the quality, utility, and clarity of the information to be collected; and (4) ways to minimize the burden of the collection of information on respondents, including through the use of automated collection techniques or the use of other forms of information technology.

Title: VA-FSC Vendor File Request Form.

OMB Control Number: 2900-NEW.

Type of Review: New Collection.

Abstract: The mission of the Nationwide Vendor File Division of the Department of Veterans Affairs—Financial Services Center (VA-FSC) is to add, modify, or delete vendor records in the Financial Management Services (FMS) Vendor File. The VA-FSCs FMS Vendor File controls aspects of when, where, and how vendors are paid. There are currently more than 2.4M active vendor records in FMS.

In 1987, Treasury implemented several initiatives to encourage agencies to convert their vendor and miscellaneous payment activity from checks to the Automated Clearing House (ACH) payments. By 1996, the Debt Collection Improvement Act (DCIA) mandated the use of electronic funds transfer (EFT) for federal payments. In order to comply with these federal requirements, the VA and other Federal Agencies have used OMB # 1510-0056/Standard Form 3881 (SF 3881) to collect the essential payment data from vendors (i.e., Name, Address, SSN/TaxID, Financial Institution, Routing and Transit Number and Bank Account Number) to establish payment files. However, because SF 3881 lacks the necessary information fields to communicate the type of Vendor record required (i.e., commercial, individual, veteran, employee, etc.) the VA-FSC required all SF 3881 submissions to have an accompanying Vendorizing Cover Sheet included to ensure proper document processing.

The new Vendorizing Form (VA10091) streamlines the data required to establish a vendor record (from the SF 3881 and Vendorizing Cover Sheet) into a single form.

Affected Public: Businesses or other for-profit, not-for-profit institutions; State, Local or Tribal Government; VA employees; Veterans; Caregivers.

Estimated Annual Burden: 37,500 burden hours.

Estimated Average Burden Per Respondent: 15 minutes.

Frequency of Response: Once per applicant, unless there is a change of name, address, banking information.

Estimated Number of Respondents: 150,000.

By direction of the Secretary:.
Kathleen M. Manwell,
Program Analyst, VA Privacy Service, Office of Privacy and Records Management, Department of Veterans Affairs.

[FR Doc. 2015-30288 Filed 11-27-15; 8:45 am]

BILLING CODE 8320-01-P